FEDERAL COMMUNICATIONS COMMISSION

47 CFR Parts 2 and 27

[WT Docket No. 19-348; FCC 21-32; FR ID 55583]

Facilitating Shared Use in the 3100-3550 MHz Band

AGENCY: Federal Communications Commission.

ACTION: Final rule; announcement of compliance date.

SUMMARY: In this document, the Commission announces that the Office of Management and Budget has approved the information collection requirements associated with the rules adopted in the Federal Communications Commission's 3.45 GHz Second Report and Order, FCC 21-32, requiring 3.45 GHz Service licensees, as well as incumbent, non-Federal, secondary radiolocation operators, to comply with certain technical rules, coordination practices, and information-sharing requirements designed to ensure the efficient deployment of flexible-use wireless services in the 3.45 GHz band without causing harmful interference to other operations. This document is consistent with the 3.45 GHz Second Report and Order, FCC 21-32, which states that the Commission will publish a document in the Federal Register announcing a compliance date for the new rule sections.

DATES: Compliance with 47 CFR 2.106, 27.14, 27.1603, 27.1605, and 27.1607, published at 86 FR 17920 on April 7, 2021, is required on November 4, 2021.

FOR FURTHER INFORMATION CONTACT: Joyce Jones, Mobility Division, Wireless Telecommunications Bureau, at (202) 418-1327 or Joyce.Jones@fcc.gov.

SUPPLEMENTARY INFORMATION: This document announces that the Office of Management and Budget (OMB) approved the information collection requirements in 47 CFR 2.106, 27.14, 27.1603, 27.1605, and 27.1607. This rule was adopted in the 3.45 GHz Second Report and Order, FCC 21-32, published at 86 FR 17920 on April 7, 2021. The Commission publishes this document as an announcement of the compliance date for this new rule. All other rules contained in the 3.45 GHz Second Report and Order became effective on June 7, 2021, see 86 FR 17920 (April 7, 2021). If you have any comments on the burden estimates listed below, or how the Commission can improve the collections and reduce any burdens caused thereby, please contact Cathy Williams, Federal Communications Commission, 45 L Street NE, Washington, DC 20554, regarding OMB Control Number 3060-1294. Please include the OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on October 19, 2021, for the information collection requirements contained in 47 CFR 2.106, 27.14(w), 27.1603, 27.1605, and 27.1607 Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirements in 47 CFR 2.106, 27.14, 27.1603, 27.1605, and 27.1607 is 3060-1294.

The foregoing is required by the Paperwork Reduction Act of 1995, Public Law 104-13, October 1, 1995, and 44 U.S.C. 3507.

The total annual reporting burdens and costs for the respondents are as follows:

OMB Control Number: 3060-1294.

OMB Approval Date: October 19. 2021.

OMB Expiration Date: October 31, 2024.

Title: FCC Authorization for Radio Service License—3.45 GHz Band Service.

Form Number: N/A.

Respondents: Business or other for-profit entities, state, local, or tribal government, and not for profit institutions.

Number of Respondents and Responses: 56 respondents; 8,201 responses.

Estimated Time per Response: 5-20 hours.

Frequency of Response: Third party disclosure requirement; on occasion reporting requirement and periodic reporting requirement.

Obligation to Respond: Required to obtain or retain benefits. Statutory authority for these collections are contained in 47 U.S.C. 151, 152, 154, 154(i), 155(c), 157, 201, 202, 208, 214, 301, 302a, 303, 307, 308, 309, 310, 311, 314, 316, 319, 324, 331, 332, 333, 336, 534, 535, and 554 of the Communications Act of 1934.

Total Annual Burden: 9,200 hours.

Total Annual Cost: $10,353,000.

Privacy Act Impact Assessment: No impact(s).

Nature and Extent of Confidentiality: In general, there is no need for confidentiality with this collection of information. Insofar as confidential information is submitted to the Department of Defense as part of the coordination by 3.45 GHz Service licensees with Federal incumbents, the Department of Defense will ensure that information remains confidential.

Needs and Uses: On March 17, 2021, the Federal Communications Commission (“Commission” or “FCC”) adopted a Second Report and Order, FCC 21-32, GN Docket No. WT-19-348 (Second Report and Order) that establishes rules for flexible-use wireless access to the 100 megahertz in the 3450-3550 MHz (3.45 GHz) band, creating the new 3.45 GHz Service. The rules will create additional capacity for wireless broadband allowing full-power operations across the band in the entire contiguous United States, while also ensuring full protection of incumbent Federal operations remaining in particular locations. As part of this process, the Commission also adopted rules related to the relocation of incumbent non-Federal radiolocation operations, the selection of a third-party reimbursement clearinghouse, and reimbursement of expenses related to such relocation.

Sections 2.016 and 27.1603 require a 3.45 GHz Service licensee whose license area overlaps with a Cooperative Planning Area or Periodic Use Area, as defined in those sections, to coordinate deployments pursuant to those licenses in those areas with relevant Federal agencies. This coordination may take the form of a mutually acceptable operator-to-operator coordination agreement between the licensee and the relevant Federal agency. In the absence of such an agreement, this coordination will include a formal request for access through a Department of Defense online portal, which will include the submission of information related to the technical characteristics of the base stations and associated mobile units to be used in the covered area. It does not require a revision to the FCC Form 601.

Section 27.1605 provides for the selection of a reimbursement clearinghouse and requires non-Federal, secondary radiolocation operations which are relocating from the 3.45 GHz band to alternate spectrum to clear the band for new flexible-use wireless operations to submit certain information to the clearinghouse in order to ensure their relocation costs are fairly reimbursed. It does not require a revision to the FCC Form 601.

Section 27.1607 requires 3.45 GHz Service licensees to share certain information about their network operations in that band with operators in the adjacent Citizens Broadband Radio Service in order to enable the latter to synchronize their operations to reduce the risk of harmful interference. In response to a request by a Citizens Broadband Radio Service operator, a 3.45 GHz Service licensee must provide information to enable Time Division Duplex synchronization. The exact nature of the information to be provided will be determined by a negotiation between the two entities, conducted on a good faith basis. The 3.45 GHz Service licensee must keep the information current as its network operations change. This does not require a revision to the FCC Form 601.

Section 27.14(w) requires 3.45 GHz Service licensees to provide information on the extent to which they provide service in their license areas. Licensees are required to file two such reports: The first four (4) years after its initial license grant and the second eight (8) years after such grant, unless they failed to meet the first set of performance requirements, in which case the second report is due seven (7) years after the initial grant. These reports are filed alongside the Form 601 and require no revisions to it.

Federal Communications Commission.
Katura Jackson,
Federal Register Liaison Officer.

[FR Doc. 2021-23847 Filed 11-3-21; 8:45 am]

BILLING CODE 6712-01-P